DEPARTMENT OF COMMERCE

International Trade Administration

[A-423-813, A-301-803, A-549-833]

Citric Acid and Certain Citrate Salts From Belgium, Colombia, and Thailand: Postponement of Preliminary Determinations of Less-Than-Fair-Value Investigations

AGENCY: Enforcement and Compliance, International Trade Administration, Department of Commerce.

DATES: Applicable November 1, 2017.

FOR FURTHER INFORMATION CONTACT: Paul Stolz at (202) 482-4474 (Belgium); Stephanie Moore at (202) 482-3692 (Colombia); and Joy Zhang at (202) 482-1168 (Thailand), AD/CVD Operations, Enforcement and Compliance, U.S. Department of Commerce, 1401 Constitution Avenue NW., Washington, DC 20230.

SUPPLEMENTARY INFORMATION:

Background

On June 22, 2017, the Department of Commerce (the Department) initiated less-than-fair- value (LTFV) investigations of imports of citric acid and certain citrate salts (citric acid) from Belgium, Colombia, and Thailand.¹ Currently, the preliminary determinations are due no later than November 9, 2017.

¹ See Citric Acid and Certain Citrate Salts From Belgium, Colombia, and Thailand: Initiation of Less-Than-Fair-Value Investigations, 82 FR 29828 (June 30, 2017).

Section 733(b)(1)(A) of the Tariff Act of 1930, as amended (the Act), requires the Department to issue the preliminary determination in a LTFV investigation within 140 days after the date on which the Department initiated the investigation. However, section 733(c)(1)) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request. See 19 CFR 351.205(e).

On October 11, 2017, Archer Daniels Midland Company (ADM); Cargill Incorporated (Cargill); and Tate & Lyle Ingredients America LLC (Tate & Lyle) (collectively, the petitioners) submitted timely requests pursuant to section 703(c)(1)(A) of the Act and 19 CFR 351.205(e) to postpone the preliminary determinations in these LTFV investigations.² The petitioners stated that they request postponement because the Department is still gathering data and questionnaire responses from the foreign producers in these investigations, and additional time is necessary for the Department and interested parties to fully and properly analyze all questionnaire responses.

² See letters from the petitioners, “Antidumping Duty Investigations of Citric Acid and Certain Citrate Salts From Belgium, Colombia and Thailand: Petitioners' Request for Postponement of Preliminary Determinations,” dated October 11, 2017.

For the reasons stated above and because there are no compelling reasons to deny the request, the Department, in accordance with section 733(c)(1)(A) of the Act, is postponing the deadline for the preliminary determinations by 50 days (i.e., 190 days after the date on which these investigations were initiated). As a result, the Department will issue its preliminary determinations no later than December 29, 2017. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: October 20, 2017.
Carole Showers,
Executive Director, Office of Policy performing the duties of the Deputy Assistant Secretary for Enforcement and Compliance.

[FR Doc. 2017-23753 Filed 10-31-17; 8:45 am]

BILLING CODE 3510-DS-P